INTERNATIONAL TRADE COMMISSION

[Investigation Nos. 731-TA-540-541 (Fourth Review)]

Certain Welded Stainless Steel Pipe From Korea and Taiwan; Determinations

On the basis of the record ¹ developed in the subject five-year reviews, the United States International Trade Commission (“Commission”) determines, pursuant to the Tariff Act of 1930 (“the Act”), that revocation of the antidumping duty orders on welded ASTM A-312 stainless steel pipe from Korea and Taiwan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on November 1, 2016 (81 FR 75845) and determined on February 6, 2017 that it would conduct expedited reviews (82 FR 12237, March 1, 2017).

The Commission made these determinations pursuant to section 751(c) of the Act (19 U.S.C. 1675(c)). It completed and filed its determinations in these reviews on May 12, 2017. The views of the Commission are contained in USITC Publication 4687 (May 2017), entitled Certain Welded Stainless Steel Pipe from Korea and Taiwan: Investigation Nos. 731-TA-540-541 (Fourth Review).

By order of the Commission.
Issued: May 12, 2017.
Katherine M. Hiner,
Supervisory Attorney.

[FR Doc. 2017-09996 Filed 5-16-17; 8:45 am]

BILLING CODE 7020-02-P